DEPARTMENT OF JUSTICE

[OMB Number 1125-0012]

Agency Information Collection Activities; Proposed eCollection eComments Requested; Extension of a Previously Approved Collection; Title—Non-Profit Religious, Charitable, Social Service, or Similar Organization (Form EOIR-31)

AGENCY: Executive Office for Immigration Review, Department of Justice.

ACTION: 30-Day notice.

SUMMARY: The Executive Office for Immigration Review (EOIR), Department of Justice (DOJ), will be submitting the following information collection request to the Office of Management and Budget (OMB) for review and approval in accordance with the Paperwork Reduction Act of 1995.

DATES: Comments are encouraged and will be accepted for 30 days until August 18, 2025.

FOR FURTHER INFORMATION CONTACT: If you have comments especially on the estimated public burden or associated response time, suggestions, or need a copy of the proposed information collection instrument with instructions or additional information, please contact: Justine Fuga, Associate General Counsel, Office of the General Counsel, Executive Office for Immigration Review, 5107 Leesburg Pike, Suite 2600, Falls Church, VA 22041, telephone: (703)-305-0265, EOIR.PRA.Comments@usdoj.gov or Justine.Fuga@usdoj.gov.

SUPPLEMENTARY INFORMATION: The proposed information collection was previously published in the Federal Register at 90 FR 12176, allowing a 60-day comment period. Written comments and suggestions from the public and affected agencies concerning the proposed collection of information are encouraged. Your comments should address one or more of the following four points:

—Evaluate whether the proposed collection of information is necessary for the proper performance of the functions of EOIR, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1125-0012. This information collection request may be viewed at www.reginfo.gov. Follow the instructions to view DOJ, information collections currently under review by OMB.

DOJ seeks PRA authorization for this information collection for three (3) years. OMB authorization for an ICR cannot be for more than three (3) years without renewal. The DOJ notes that information collection requirements submitted to the OMB for existing ICRs receive a month-to-month extension while they undergo review.

Overview of this information collection:

1. Type of Information Collection: Extension of a previously approved collection.

2. Title of the Form/Collection: Request for New Recognition, Renewal of Recognition, Extension of Recognition of a Non-profit Religious, Charitable, Social Service, or Similar Organization.

3. Agency form number, if any, and the applicable component of the Department of Justice sponsoring the collection: The agency form number is EOIR-31, and the sponsoring DOJ component is EOIR.

4. Affected public who will be asked or required to respond, as well as a brief abstract: Affected Public: Non-profit organizations seeking initial recognition, renewal of recognition, or extension of recognition to be recognized as legal service providers by the Assistant Director for Policy (or the Assistant Director for Policy's delegate) at EOIR. Abstract: This information collection will allow an organization to request initial and renewed recognition of the organization to appear in immigration proceedings before EOIR and/or the Department of Homeland Security (DHS), or to request an extension of recognition from a designated office to another location. This information collection is necessary to determine whether an organization meets the eligibility requirements for recognition pursuant to 8 U.S.C. 1103, 1229a, 1362 and 8 CFR 1292.11-19. Requests can be made using a fillable .pdf application or electronic submission. EOIR has made non-substantive changes to the current Form EOIR-31. These changes include revisions to the form's Privacy Act notice; addition of the expiration date for OMB approval on the form; updates to the address to which applications can be submitted; and addition of an alternative method by which applications can be submitted.

5. Obligation to Respond: The information requested on this form is authorized by 8 U.S.C. 1103, 1229a, 1362 and 8 CFR 1292.11-19 in order to determine whether an organization has established eligibility for recognition to provide representation through accredited representatives who appear on behalf of clients in immigration proceedings before EOIR's immigration courts, EOIR's Board of Immigration Appeals (BIA), and/or DHS. This is a voluntary collection of information and will be used by EOIR to assess an organization's eligibility for recognition; however, failure to provide the requested information may preclude consideration of a recognition request.

6. Total Estimated Number of Respondents: It is estimated that 210 respondents will complete the form annually for initial recognition, 90 respondents will complete the form annually for renewal of recognition, and 20 respondents will complete the form annually for requests to extend recognition to another office location.

7. Estimated Time per Respondent: It is estimated that it will take an average of 2 hours per response for initial recognition, an average of 7 hours per response for renewal of recognition, and an average of 2 hours per response for requests to extend recognition to another office location.

8. Frequency: It is estimated that respondents will complete the form annually.

9. Total Estimated Annual Time Burden: 1,055 hours.

10. Total Estimated Annual Other Costs Burden: $0.

Total Burden Hours
Activity | Number of respondents | Frequency | Total annual responses | Time per response | Total annual burden (hours)
Initial EOIR-31 Applications | 210 | 1/annually | 210 | 2 hrs | 420 hrs.
Renewal EOIR-31 Applications | 90 | 1/annually | 90 | 7 hrs | 630 hrs.
Extension EOIR-31 Applications | 20 | 1/annually | 20 | 2 hrs | 40 hrs.
Totals | 320 |  | 320 |  | 1,090 hrs.

If additional information is required, contact: Darwin Arceo, Department Clearance Officer, Policy and Planning Staff, Justice Management Division, United States Department of Justice, Two Constitution Square, 145 N Street NE, 4W-218 Washington, DC 20530.

Dated: July 16, 2025.
Darwin Arceo,
Department Clearance Officer for PRA, U.S. Department of Justice.

[FR Doc. 2025-13518 Filed 7-17-25; 8:45 am]

BILLING CODE 4410-30-P